DEPARTMENT OF DEFENSE

Office of the Secretary

[Docket ID DOD-2013-OS-0197]

Proposed Collection; Comment Request

AGENCY: Office of the Under Secretary of Defense for Acquisition, Technology and Logistics, DoD.

ACTION: Notice.

SUMMARY: In compliance with the Paperwork Reduction Act of 1995, the Office of the Under Secretary of Defense for Acquisition, Technology and Logistics announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 27, 2017.

ADDRESSES: You may submit comments, identified by docket number and title, by any of the following methods:

• Federal eRulemaking Portal: http://www.regulations.gov. Follow the instructions for submitting comments.

• Mail: Department of Defense, Office of the Deputy Chief Management Officer, Directorate for Oversight and Compliance, 4800 Mark Center Drive, Mailbox #24, Alexandria, VA 22350-1700.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the Assistant Secretary of Defense, (Energy, Installations, & Environment) 3400 Defense Pentagon, Suite 5C646, ATTN: Phyllis Newton, Washington, DC 20301-3400 or call 703-571-9060.

SUPPLEMENTARY INFORMATION: Title; Associated Form; and OMB Number: Application for DoD Homeowners Assistance Program (HAP); DD Form 1607, “Application for DoD Homeowners Assistance Program”; OMB Control Number 0704-0463.

Needs and Uses: The information collection requirement is necessary to determine applicants' eligibility for benefits and to process the requests for the DoD Homeowners Assistance Program (HAP). Information provided on this form may be disclosed outside the DoD as a routine use to the General Services Administration when assuming custody of acquired homes, to manage and dispose of such properties on behalf of the Secretary of Defense; Department of Veterans Affairs in accepting subsequent purchaser in private sales when property is encumbered by a mortgage loan guaranteed or insured by them; Department of Justice to review final title and deeds of conveyance to the Government for properties acquired under the program; and the Internal Revenue Service to determine tax liability for sale of property to the Government.

Affected Public: Individuals or Households.

Annual Burden Hours: 50.

Number of Respondents: 50.

Responses per Respondent: 1.

Annual Responses: 50.

Average Burden per Response: 1 Hour.

Frequency: As Required.

Respondents are eligible Department of Defense and U.S. Coast Guard homeowners serving or employed at or near military installations which were ordered closed or partially closed, realigned, or were ordered to reduce the scope of operations under the Base Realignment and Closure (BRAC) authority. Respondents will use the prescribed form to apply for HAP financial assistance when affected by a BRAC announcement, or a wound, injury, or illness incurred while in the line of duty, or the surviving spouse of a fallen warrior. Although the completion of the application is voluntary, failure to provide the requested information will hinder the verification of employment and homeowner information and may result in delay or denial of HAP benefits provided under the law.

Dated: November 22, 2016.
Aaron Siegel,
Alternate OSD Federal Register, Liaison Officer, Department of Defense.

[FR Doc. 2016-28560 Filed 11-25-16; 8:45 am]

BILLING CODE 5001-06-P